UNIFIED CARRIER REGISTRATION PLAN

Sunshine Act; Meeting

TIME AND DATE: September 8, 2022, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 965 9441 3860, to listen and participate in this meeting. The website to participate via Zoom Meeting and Screenshare is https://kellen.zoom.us/meeting/register/tJIofu2srzgiHNToYfHwsskxuOVfwq0MUrdg.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Audit Subcommittee Action

The agenda will be reviewed and the Subcommittee will consider adoption.

Ground Rules

➢ Subcommittee action only to be taken in designated areas on the agenda.

IV. Review and Approval of Subcommittee Minutes From the June 30, 2022 Meeting—UCR Audit Subcommittee Chair

For Discussion and Possible Subcommittee Action

Draft minutes from the June 30, 2022 Subcommittee meeting via teleconference will be reviewed. The Subcommittee will consider action to approve.

V. Additional Compliance Evaluation Tools for the Annual State Audit Progress Report—UCR Audit Subcommittee Chair

For Discussion and Possible Subcommittee Action

The UCR Audit Subcommittee Chair will lead a discussion regarding the current evaluation process for the participating states' audit programs as required by the UCR Agreement. The Subcommittee will discuss options that may require states to add broker registration percentages to the annual state audit requirements in addition to the established compliance requirements set forth in the UCR Agreement. The Subcommittee may take action to approve such options as may be discussed.

VI. Audit Compliance Snapshot by State for Registration Years 2021 and 2022—UCR Audit Subcommittee Chair

The UCR Audit Subcommittee Chair will present registration performance statistics and the related compliance percentages, Focused Anomaly Reviews (FARs), unregistered bracket 5 and 6 motor carriers and retreat audits for the 2021 and 2022 registration years.

VII. Review of States Enforcement Efficiency Reports—UCR Audit Subcommittee Chair

The UCR Audit Subcommittee Chair will review the “Should-Have-Been” (“SHB”) report and discuss ideas regarding how to assist states to improve their UCR violation issuance rates.

VIII. Update Regarding the Enforcement Video for FMCSA's National Training Center—UCR Audit Subcommittee Chair, UCR Education and Training Chair, and the UCR Executive Director

The UCR Audit Subcommittee Chair, the UCR Education and Training Subcommittee Chair and the UCR Executive Director will provide an update regarding the progress achieved on the enforcement video for use in the FMCSA's National Training Center.

IX. State Compliance Review Program—UCR Audit Subcommittee Chair and UCR Depository Manager

The UCR Audit Subcommittee Chair and the UCR Depository Manager will lead a discussion on program objectives and states scheduled for review in 2022.

X. Maximizing the Value of the Should Have Been (SHB) and Enforcement Efficiency Tools—UCR Audit Subcommittee Chair, UCR Audit Subcommittee Vice-Chair and DSL Transportation Services, Inc. (DSL)

The UCR Audit Subcommittee Chair, UCR Audit Subcommittee Vice-Chair and DSL will provide an update on the value achieved by utilizing Shadow MCMIS and other tools in the National Registration System (NRS). The discussion will highlight the financial value to the states of vetting businesses for UCR compliance, commercial registration, IFTA, intrastate, and interstate operating authority.

XI. Audit Subcommittee Meetings in 2023—UCR Audit Subcommittee Chair and UCR Executive Director

The UCR Audit Subcommittee Chair and UCR Executive Director will discuss tentative plans for Audit Subcommittee meetings virtually and in-person during calendar year 2023.

XII. Future Auditor Training Opportunities—UCR Audit Subcommittee Chair, UCR Audit Vice-Chair and DSL

The UCR Audit Subcommittee Chair, UCR Audit Subcommittee Vice-Chair and DSL will direct a discussion regarding the value added to state enforcement efforts by developing short virtual audit training sessions.

XIII. Audit Subcommittee Consideration of Future Education and Training Products—UCR Audit Subcommittee Chair and UCR Education and Training Subcommittee Chair

The UCR Audit Subcommittee Chair and the UCR Education and Training Subcommittee Chair may discuss recommendations for future state training products intended to increase states UCR registration efficiency.

XIV. Presentation From Warren Averett (the UCR Depository Independent Auditors)—UCR Audit Subcommittee Chair and UCR Depository Manager

The UCR Audit Subcommittee Chair and the UCR Depository Manager will introduce the independent auditors of the UCR Depository and allow them to address issues of significance to the subcommittee, in fulfillment of the subcommittee's fiduciary responsibility to the UCR Plan. The Audit Subcommittee may ask any questions to the external and independent auditors that they may have of the UCR Plan.

XV. Other Items—UCR Audit Subcommittee Chair

The UCR Audit Subcommittee Chair will call for any other items Subcommittee members would like to discuss.

XVI. Adjournment—UCR Audit Subcommittee Chair

The UCR Audit Subcommittee Chair will adjourn the meeting.

The agenda will be available no later than 5:00 p.m. Eastern time, August 31, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-19020 Filed 8-30-22; 4:15 pm]

BILLING CODE 4910-YL-P